DEPARTMENT OF THE TREASURY

Office of the Secretary

31 CFR Part 1

RIN 1505-AC27

Privacy Act of 1974; Implementation

AGENCY: Departmental Offices, Treasury.

ACTION: Final rule.

SUMMARY: In accordance with the requirements of the Privacy Act of 1974, the Department of the Treasury gives notice of an amendment to update its Privacy Act regulations, and to add an exemption from certain provisions of the Privacy Act for a system of records related to the Office of Foreign Assets Control (OFAC).

DATES: Effective Date: January 27, 2011.

FOR FURTHER INFORMATION CONTACT: Assistant Director, Disclosure Services, Office of Foreign Assets Control, Department of the Treasury, 1500 Pennsylvania Avenue, NW., Washington, DC 20220, tel.: 202-622-2510 (not a toll free number), or Chief Counsel (Foreign Assets Control), Office of General Counsel, Department of the Treasury, 1500 Pennsylvania Avenue, NW., Washington, DC 20220, tel.: 202-622-2410 (not a toll free number).

SUPPLEMENTARY INFORMATION: The Departmental Offices published a system of records notice on October 6, 2010, at 75 FR 61853, consolidating three systems of records into one entitled “Treasury/DO .120—Records Related to Office of Foreign Assets Control Economic Sanctions.”

On October 13, 2010, the Department published, at 75 FR 62737, a proposed rule amending § 1.26(g)(6)(ii)(A) to update the reference to applicable Executive Orders by referencing Executive Orders 12958, 13526, or successor or prior Executive Orders as may be necessary. The proposed rule also exempted the system of records from provisions of the Privacy Act pursuant to 5 U.S.C. 552a(k)(1).

The proposed rule created a new table in paragraph 31 CFR 1.36(e)(1) under the heading designated as “(i) Departmental Offices:”. The system of records entitled “DO .120—Records Related to Office of Foreign Assets Control Economic Sanctions” will be added to the table under (i). The current heading “Financial Crimes Enforcement Network:” and the associated table are designated as “(ii).”

The proposed rule requested that public comments be submitted to the Assistant Director, Disclosure Services, OFAC, Department of the Treasury, 1500 Pennsylvania Avenue, NW., Washington, DC 20220. The Department did not receive comments on the proposed rule. Accordingly the Department is hereby giving notice that the system of records entitled “Treasury/DO .120—Records Related to Office of Foreign Assets Control Economic Sanctions” is exempt from provisions of the Privacy Act, pursuant to 5 U.S.C. 552a(k)(1) as set forth in the proposed rule.

This final rule is not a “significant regulatory action” under Executive Order 12866.

A notice amending the Privacy Act system of records entitled “Treasury/DO .120—Records Related to Office of Foreign Assets Control Economic Sanctions” will be published separately in the Federal Register.

Pursuant to the requirements of the Regulatory Flexibility Act (RFA), 5 U.S.C. 601-612, it is hereby certified that this rule will not have significant economic impact on a substantial number of small entities. The term “small entity” is defined to have the same meaning as the terms “small business,” “small organization,” and “small governmental jurisdiction,” as defined in the RFA.

List of Subjects in 31 CFR Part 1

Privacy.

Part 1, Subpart C of Title 31 of the Code of Federal Regulations, is amended as follows:

PART 1—[AMENDED]

1. The authority citation for part 1 continues to read as follows:

Authority: 5 U.S.C. 301 and 31 U.S.C. 321. Subpart A also issued under 5 U.S.C. 552, as amended. Subpart C also issued under 5 U.S.C. 552a, as amended.

Subpart C—Privacy Act

2. Section 1.26 is amended by revising the first sentence in paragraph (g)(6)(ii)(A) to read as follows:

§ 1.26 Procedures for notification and access to records pertaining to individuals—format and fees for request for access.

* * * * *

(g) * * *

(6) * * *

(ii) * * *

(A) Requests for information classified pursuant to Executive Orders 12958, 13526, or successor or prior Executive Orders require the responsible component of the Department to review the information to determine whether it continues to warrant classification pursuant to an Executive Order. * * *

* * * * *

3. Section 1.36 is amended by revising paragraphs (e) and (f) to read as follows:

§ 1.36 Systems exempt in whole or in part from provisions of 5 U.S.C. 522a and this part.

* * * * *

(e) Specific exemptions under 5 U.S.C. 552a(k)(1). (1) Under 5 U.S.C. 552a(k)(1), the head of any agency may promulgate rules to exempt any system of records within the agency from certain provisions of the Privacy Act to the extent that the system contains information subject to the provisions of 5 U.S.C. 552(b)(1). This paragraph applies to the following systems of records maintained by the Department of the Treasury:

(i) Departmental Offices:

Number | System name
DO .120 | Records Related to Office of Foreign Assets Control Economic Sanctions.

(ii) Financial Crimes Enforcement Network:

Number | System name
FinCEN .001 | FinCEN Database.

(2) The Department of the Treasury hereby exempts the systems of records listed in paragraph (e)(1) of this section from the following provisions of 5 U.S.C. 552a, pursuant to 5 U.S.C. 552a(k)(1): 5 U.S.C. 552a(c)(3), 5 U.S.C. 552a(d)(1), (2), (3), and (4), 5 U.S.C. 552a(e)(1), 5 U.S.C. 552a(e)(4)(G), (H), and (I), and 5 U.S.C. 552a(f).

(f) Reasons for exemptions under 5 U.S.C. 552a(k)(1). The reason for invoking the exemption is to protect material authorized to be kept secret in the interest of national defense or foreign policy pursuant to Executive Orders 12958, 13526, or successor or prior Executive Orders.

* * * * *

Dated: January 7, 2011.
Melissa Hartman,
Deputy Assistant Secretary for Privacy, Transparency, and Records.

[FR Doc. 2011-1775 Filed 1-26-11; 8:45 am]

BILLING CODE 4810-25-P